DEPARTMENT OF TRANSPORTATION

Federal Aviation Administration

14 CFR Part 97

[Docket No. 30853; Amdt. No. 3488]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective August 2, 2012. The compliance date for each SIAP, associated Takeoff Minimums, and ODP is specified in the amendatory provisions.

The incorporation by reference of certain publications listed in the regulations is approved by the Director of the Federal Register as of August 2, 2012.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125), Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPs, an effective date at least 30 days after publication is provided.

Further, the SIAPs and Takeoff Minimums and ODPs contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPs, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866;(2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC, on July 20, 2012.
John Duncan,
Deputy Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

Part 97—Standard Instrument Approach Procedures

1. The authority citation for part 97 continues to read as follows:

Authority: 49 U.S.C. 106(g), 40103, 40106, 40113, 40114, 40120, 44502, 44514, 44701, 44719, 44721-44722.

2. Part 97 is amended to read as follows:

Effective 23 August 2012

Pensacola, FL, Pensacola Gulf Coast Rgnl, RNAV (GPS) RWY 17, Amdt 2A

Plymouth, MA, Plymouth Muni, ILS OR LOC/DME RWY 6, Amdt 1B

Worcester, MA, Worcester Rgnl, VOR/DME RWY 33, Amdt 1

Mackinac Island, MI, Mackinac Island, Takeoff Minimums and Obstacle DP, Amdt 2

Montauk, NY, Montauk, RNAV (GPS) RWY 6, Orig

Montauk, NY, Montauk, RNAV (GPS) RWY 24, Amdt 1

Myrtle Beach, SC, Myrtle Beach Intl, RNAV (GPS)-A, Orig

Dallas, TX, Dallas Love Field, RNAV (GPS) Z RWY 13L, Amdt 1A

Dallas, TX, Dallas Love Field, RNAV (GPS) Z RWY 13R, Orig-B

El Paso, TX, El Paso Intl, RNAV (RNP) Y RWY 4, Orig-B

Oconto, WI, J. Douglas Bake Memorial, GPS RWY 11, Orig-A, CANCELED

Oconto, WI, J. Douglas Bake Memorial, NDB OR GPS RWY 29, Orig-B, CANCELED

Oconto, WI, J. Douglas Bake Memorial, RNAV (GPS) RWY 11, Orig

Oconto, WI, J. Douglas Bake Memorial, RNAV (GPS) RWY 29, Orig

Effective 20 September 2012

Galena, AK, Edward G. Pitka Sr, RNAV (GPS) RWY 7, Amdt 2

Galena, AK, Edward G. Pitka Sr, RNAV (GPS) RWY 25, Amdt 2

Galena, AK, Edward G. Pitka Sr, VOR/DME RWY 7, Amdt 8

Galena, AK, Edward G. Pitka Sr, VOR/DME RWY 25, Amdt 11

Iliamna, AK, Iliamna, RNAV (GPS) RWY 35, Amdt 2

King Salmon, AK, King Salmon, ILS OR LOC/DME RWY 12, Amdt 18

King Salmon, AK, King Salmon, LOC/DME BC RWY 30, Amdt 5

Courtland, AL, Courtland, RNAV (GPS) RWY 13, Amdt 2

Courtland, AL, Courtland, RNAV (GPS) RWY 31, Amdt 2

Courtland, AL, Courtland, Takeoff Minimums and Obstacle DP, Amdt 2

Firebaugh, CA, Firebaugh, Takeoff Minimums and Obstacle DP, Amdt 2

San Francisco, CA, San Francisco Intl, ILS OR LOC RWY 28L, Amdt 23

San Francisco, CA, San Francisco Intl, ILS PRM RWY 28L (Simultaneous Close Parallel), Amdt 2

Pagosa Springs, CO, Stevens Field, RNAV (GPS)-A, Amdt 1

Daytona Beach, FL, Daytona Beach Intl, ILS OR LOC RWY 7L, Amdt 31

Daytona Beach, FL, Daytona Beach Intl, RNAV (GPS) RWY 7L, Amdt 1

Daytona Beach, FL, Daytona Beach Intl, RNAV (GPS) Y RWY 7L, Orig-B, CANCELED

Hollywood, FL, North Perry, GPS RWY 9R, Orig-B, CANCELED

Hollywood, FL, North Perry, RNAV (GPS) RWY 10R, Orig

Hollywood, FL, North Perry, RNAV (GPS) RWY 28R, Orig

Hollywood, FL, North Perry, Takeoff Minimums and Obstacle DP, Amdt 4

Jacksonville, FL, Cecil, VOR RWY 9R, Amdt 1

Melbourne, FL, Melbourne Intl, ILS OR LOC RWY 9R, Amdt 12

Melbourne, FL, Melbourne Intl, LOC BC RWY 27L, Amdt 10

Melbourne, FL, Melbourne Intl, RNAV (GPS) RWY 9L, Amdt 1

Melbourne, FL, Melbourne Intl, RNAV (GPS) RWY 9R, Amdt 1

Melbourne, FL, Melbourne Intl, RNAV (GPS) RWY 27L, Amdt 1

Melbourne, FL, Melbourne Intl, RNAV (GPS) RWY 27R, Amdt 1

Melbourne, FL, Melbourne Intl, VOR RWY 9R, Amdt 21

Melbourne, FL, Melbourne Intl, VOR RWY 27L, Amdt 13

Orlando, FL, Kissimmee Gateway, GPS RWY 6, Orig-B, CANCELED

Orlando, FL, Kissimmee Gateway, RNAV (GPS) RWY 6, Orig

Orlando, FL, Kissimmee Gateway, RNAV (GPS) RWY 33, Amdt 2

Orlando, FL, Orlando Intl, ILS OR LOC RWY 17L, ILS RWY 17L (CAT II), Amdt 1B

Orlando, FL, Orlando Intl, ILS OR LOC RWY 17R, ILS RWY 17R (CAT II), Amdt 5B

Orlando, FL, Orlando Intl, ILS OR LOC RWY 18R, Amdt 9B

Orlando, FL, Orlando Intl, ILS OR LOC RWY 35L, ILS RWY 35L (CAT II), ILS RWY 35L (CAT III), Amdt 6C

Orlando, FL, Orlando Intl, ILS OR LOC RWY 35R, ILS RWY 35R (CAT II), Amdt 1C

Orlando, FL, Orlando Intl, ILS OR LOC RWY 36R, ILS RWY 36R (CAT II), ILS RWY 36R (CAT III), Amdt 9C

Orlando, FL, Orlando Intl, RNAV (GPS) RWY 17L, Orig-A

Orlando, FL, Orlando Intl, RNAV (GPS) RWY 17R, Orig-A

Orlando, FL, Orlando Intl, RNAV (GPS) RWY 18L, Orig-A

Orlando, FL, Orlando Intl, RNAV (GPS) RWY 18R, Orig-A

Orlando, FL, Orlando Intl, RNAV (GPS) RWY 35L, Orig-B

Orlando, FL, Orlando Intl, RNAV (GPS) RWY 35R, Orig-B

Orlando, FL, Orlando Intl, RNAV (GPS) RWY 36L, Orig-B

Orlando, FL, Orlando Intl, RNAV (GPS) RWY 36R, Orig-B

Orlando, FL, Orlando Intl, RNAV (RNP) Z RWY 17L, Orig-A, CANCELED

Orlando, FL, Orlando Intl, RNAV (RNP) Z RWY 17R, Orig-A, CANCELED

Orlando, FL, Orlando Intl, RNAV (RNP) Z RWY 18L, Orig-A, CANCELED

Orlando, FL, Orlando Intl, RNAV (RNP) Z RWY 18R, Orig-A, CANCELED

Orlando, FL, Orlando Intl, RNAV (RNP) Z RWY 35L, Orig-B, CANCELED

Orlando, FL, Orlando Intl, RNAV (RNP) Z RWY 35R, Orig-B, CANCELED

Orlando, FL, Orlando Intl, RNAV (RNP) Z RWY 36L, Orig-B, CANCELED

Orlando, FL, Orlando Intl, RNAV (RNP) Z RWY 36R, Orig-B, CANCELED

Atlanta, GA, Dekalb-Peachtree, VOR/DME RWY 27, Amdt 1F, CANCELED

Atlanta, GA, Dekalb-Peachtree, VOR/DME-D, Orig

Ames, IA, Ames Muni, ILS OR LOC RWY 1, Amdt 2

Indianapolis, IN, Greenwood Muni, Takeoff Minimums and Obstacle DP, Amdt 4

Pittsburg, KS, Atkinson Muni, RNAV (GPS) RWY 4, Amdt 1

Pittsburg, KS, Atkinson Muni, RNAV (GPS) RWY 16, Amdt 2

Pittsburg, KS, Atkinson Muni, RNAV (GPS) RWY 22, Amdt 1

Pittsburg, KS, Atkinson Muni, RNAV (GPS) RWY 34, Amdt 2

Gonzales, LA, Louisiana Rgnl, RNAV (GPS) RWY 17, Amdt 1

Gonzales, LA, Louisiana Rgnl, RNAV (GPS) RWY 35, Amdt 1

Gonzales, LA, Louisiana Rgnl, Takeoff Minimums and Obstacle DP, Amdt 1

Slidell, LA, Slidell, NDB RWY 36, Orig-E, CANCELED

Vineyard Haven, MA, Marthas Vineyard, RNAV (GPS) RWY 15, Orig

Vineyard Haven, MA, Marthas Vineyard, RNAV (GPS) RWY 33, Orig

Winona, MN, Winona Muni-Max Conrad Fld, RNAV (GPS) RWY 30, Amdt 1

Winona, MN, Winona Muni-Max Conrad Fld, Takeoff Minimums and Obstacle DP, Amdt 4

St Louis, MO, Lambert-St Louis Intl, RNAV (GPS) Y RWY 11, Orig-B

St Louis, MO, Lambert-St Louis Intl, RNAV (GPS) Y RWY 12L, Amdt 2B

St Louis, MO, Lambert-St Louis Intl, RNAV (GPS) Y RWY 12R, Amdt 1B

St Louis, MO, Lambert-St Louis Intl, RNAV (GPS) Y RWY 29, Orig-C

St Louis, MO, Lambert-St Louis Intl, RNAV (GPS) Y RWY 30L, Amdt 1B

St Louis, MO, Lambert-St Louis Intl, RNAV (GPS) Y RWY 30R, Amdt 1D

Marks, MS, Selfs, Takeoff Minimums and Obstacle DP, Amdt 1

Cavalier, ND, Cavalier Muni, RNAV (GPS) RWY 34, Amdt 1

Cavalier, ND, Cavalier Muni, Takeoff Minimums and Obstacle DP, Amdt 1

Le Roy, NY, Le Roy, RNAV (GPS) RWY 10, Orig

Le Roy, NY, Le Roy, RNAV (GPS) RWY 28, Orig

Le Roy, NY, Le Roy, Takeoff Minimums and Obstacle DP, Amdt 1

Le Roy, NY, Le Roy, VOR-A, Amdt 1

Shirley, NY, Brookhaven, ILS OR LOC RWY 6, Amdt 2

Cincinnati, OH, Cincinnati Muni Airport Lunken Field, ILS OR LOC RWY 21L, Amdt 19

Cincinnati, OH, Cincinnati Muni Airport Lunken Field, NDB RWY 21L, Amdt 17

Cincinnati, OH, Cincinnati Muni Airport Lunken Field, NDB RWY 25, Amdt 12

Cincinnati, OH, Cincinnati Muni Airport Lunken Field, RNAV (GPS) RWY 3R, Orig

Cincinnati, OH, Cincinnati Muni Airport Lunken Field, RNAV (GPS) RWY 21L, Amdt 1

Cincinnati, OH, Cincinnati Muni Airport Lunken Field, RNAV (GPS) RWY 25, Amdt 1

Clearfield, PA, Clearfield-Lawrence, RNAV (GPS) RWY 12, Orig

Clearfield, PA, Clearfield-Lawrence, RNAV (GPS) RWY 30, Amdt 1

Clearfield, PA, Clearfield-Lawrence, Takeoff Minimums and Obstacle DP, Amdt 3

Connellsville, PA, Joseph A. Hardy Connellsville, LOC RWY 5, Amdt 4

Connellsville, PA, Joseph A. Hardy Connellsville, RNAV (GPS) RWY 5, Orig

Connellsville, PA, Joseph A. Hardy Connellsville, RNAV (GPS) RWY 14, Orig

Connellsville, PA, Joseph A. Hardy Connellsville, Takeoff Minimums and Obstacle DP, Amdt 1

Clemson, SC, Oconee County Rgnl, RNAV (GPS) RWY 25, Amdt 3

Gregory, SD, Gregory Muni, Flynn Fld, GPS RWY 31, Amdt 1, CANCELED

Gregory, SD, Gregory Muni—Flynn Fld, RNAV (GPS) RWY 13, Orig

Gregory, SD, Gregory Muni—Flynn Fld, RNAV (GPS) RWY 31, Orig

Angelton/Lake Jackson, TX, Texas Gulf Coast Rgnl, ILS OR LOC RWY 17, Amdt 5

Caldwell, TX, Caldwell Muni, RNAV (GPS) RWY 15, Orig

Caldwell, TX, Caldwell Muni, RNAV (GPS) RWY 33, Orig

Caldwell, TX, Caldwell Muni, Takeoff Minimums and Obstacle DP, Amdt 1

Caldwell, TX, Caldwell Muni, VOR/DME-A, Amdt 3

Lago Vista, TX, Lago Vista TX—Rusty Allen, GPS RWY 15, Orig-A, CANCELED

Lago Vista, TX, Lago Vista TX—Rusty Allen, RNAV (GPS) RWY 15, Orig

Robstown, TX, Nueces County, GPS RWY 13, Orig-C, CANCELED

Robstown, TX, Nueces County, RNAV (GPS) RWY 13, Orig

Robstown, TX, Nueces County, Takeoff Minimums and Obstacle DP, Amdt 1

Clarksville, VA, Lake Country Regional, VOR/DME-A, Orig-A, CANCELED

Richland, WA, Richland, LOC RWY 19, Amdt 8

Richland, WA, Richland, RNAV (GPS) Y RWY 19, Amdt 1

Richland, WA, Richland, RNAV (GPS) Z RWY 19, Orig

Wenatchee, WA, Pangborn Memorial, ILS X RWY 12, Orig

Yakima, WA, Yakima Air Terminal/McAllister Field, RNAV (GPS) X RWY 27, Amdt 1A

Medford, WI, Taylor County, RNAV (GPS) RWY 16, Orig

Medford, WI, Taylor County, RNAV (GPS) RWY 34, Orig

Mineral Point, WI, Iowa County, NDB RWY 22, Amdt 6

Mineral Point, WI, Iowa County, RNAV (GPS) RWY 4, Amdt 1

Mineral Point, WI, Iowa County, RNAV (GPS) RWY 11, Amdt 1

Mineral Point, WI, Iowa County, RNAV (GPS) RWY 22, Amdt 1

Mineral Point, WI, Iowa County, RNAV (GPS) RWY 29, Amdt 1

Superior, WI, Richard I Bong, GPS RWY 3, Orig, CANCELED

Superior, WI, Richard I Bong, GPS RWY 13, Orig, CANCELED

Superior, WI, Richard I Bong, GPS RWY 31, Orig, CANCELED

Superior, WI, Richard I Bong, RNAV (GPS) RWY 4, Orig

Superior, WI, Richard I Bong, RNAV (GPS) RWY 14, Orig

Superior, WI, Richard I Bong, RNAV (GPS) RWY 22, Orig

Superior, WI, Richard I Bong, RNAV (GPS) RWY 32, Orig

Casper, WY, Casper/Natrona County Intl, Takeoff Minimums and Obstacle DP, Amdt 4

Cheyenne, WY, Cheyenne Rgnl/Jerry Olson Field, Takeoff Minimums and Obstacle DP, Amdt 4

[FR Doc. 2012-18521 Filed 8-1-12; 8:45 am]

BILLING CODE 4910-13-P